ENVIRONMENTAL PROTECTION AGENCY

40 CFR Part 52

[EPA-HQ-OAR-2021-0863; EPA-R03-OAR-2023-0179; FRL-12161-03-OAR]

RIN 2060-AW38

Excess Emissions During Periods of Startup, Shutdown, and Malfunction; Partial Withdrawals of Findings of Failure To Submit State Implementation Plan (SIP)

AGENCY: Environmental Protection Agency (EPA).

ACTION: Direct final rule; withdrawal.

SUMMARY: Due to the receipt of adverse comment, the Environmental Protection Agency (EPA) is withdrawing the November 26, 2024, direct final rule to partially withdraw two final actions finding that 13 States and/or local air pollution control agencies failed to submit State Implementation Plan (SIP) revisions required by the Clean Air Act (CAA) in a timely manner to address the EPA's 2015 findings of substantial inadequacy and “SIP calls” for provisions applying to excess emissions during periods of startup, shutdown, and malfunction (SSM). The EPA will address all comments received in a subsequent final rule for which the EPA will not institute a second comment period.

DATES: Effective January 10, 2025, the EPA withdraws the direct final rule published at 89 FR 93187 on November 26, 2024.

FOR FURTHER INFORMATION CONTACT: General questions concerning this document should be addressed to, Sydney Lawrence, Office of Air Quality Planning and Standards, Air Quality Policy Division, 109 T.W. Alexander Drive, Research Triangle Park, NC 27711; by telephone (919) 541-4768; or by email at lawrence.sydney@epa.gov.

SUPPLEMENTARY INFORMATION: On November 26, 2024, the EPA published a direct final rule (89 FR 93187) to partially withdraw two final actions finding that 13 States and/or local air pollution control agencies failed to submit SIP revisions required by the CAA to address the EPA's 2015 findings of substantial inadequacy and “SIP calls” for provisions applying to excess emissions during periods of SSM. In the proposal for the direct final rule published on the same day (89 FR 93243), the EPA stated that written comments must be received on or before December 26, 2024. The EPA stated that if any relevant adverse comments are received on the proposal, the EPA will publish a timely withdrawal of the direct final rule in the Federal Register. On December 22, 2024, an adverse comment dated December 18, 2024, was posted in the docket that the EPA interprets as relevant and adverse. Therefore, the EPA is withdrawing the direct final rule and will publish a subsequent final rule wherein the EPA will address all comments received. The EPA will not institute a second comment period on the subsequent final rule.

List of Subjects in 40 CFR Part 52

Environmental protection, Administrative practice and procedure, Air pollution control, Approval and promulgation of implementation plans, Incorporation by reference, Intergovernmental relations, and Reporting and recordkeeping requirements.

Joesph Goffman,
Assistant Administrator.

[FR Doc. 2025-00433 Filed 1-8-25; 8:45 am]

BILLING CODE 6560-50-P